DEPARTMENT OF HOMELAND SECURITY

Coast Guard

33 CFR Part 100

[Docket No. USCG-2025-0681]

Special Local Regulations; Marine Events Within the USCG East District (Formerly USCG District 5); Bay Bridge Paddle

AGENCY: Coast Guard, DHS.

ACTION: Notification of enforcement of regulation.

SUMMARY: The Coast Guard will enforce a special local regulation for the Bay Bridge Paddle on September 14, 2025, to provide for the safety of life on navigable waterways during this event. Our regulation for marine events within the USCG East District (formerly USCG District 5) identifies the regulated area for this event as between Sandy Point State Park and Kent Island, MD. During the enforcement period, the operator of any vessel in the regulated area must comply with directions from the Patrol Commander or any Official Patrol displaying a Coast Guard ensign.

DATES: The regulations in 33 CFR 100.501 will be enforced for the Bay Bridge Paddle, which is listed in table 2 paragraph (i)(2) of 100.501, from 8 a.m. to 12 noon on September 14, 2025.

FOR FURTHER INFORMATION CONTACT: If you have questions about this notification of enforcement, call or email LCDR Kate M. Newkirk, Sector Maryland-National Capital Region, Waterways Management Division, U.S. Coast Guard; telephone 410-576-2596, email MDNCRMarineEvents@uscg.mil.

SUPPLEMENTARY INFORMATION: The Coast Guard will enforce a special local regulation in 33 CFR 100.501 for the Bay Bridge Paddle regulated area from 8 a.m. to 12 noon on September 14, 2025. This action is being taken to provide for the safety of life on navigable waterways during this event. Our regulation for marine events within the USCG East District (formerly USCG District 5), § 100.501(i)(2), specifies the location of the regulated area as between Sandy Point State Park and Kent Island, MD. The table to paragraph (i)(2) indicates that this event is normally held on the first Saturday or Sunday in June, but a footnote indicates that enforcement periods are subject to change and that changes will be noticed in the Federal Register. During the enforcement periods, as reflected in § 100.501(g), the operator of a vessel in the regulated area must comply with directions from the Patrol Commander or any Official Patrol displaying a Coast Guard ensign.

In addition to this notification of enforcement in the Federal Register, the Coast Guard plans to provide notification of this enforcement period via the Local Notice to Mariners and marine information broadcasts.

Dated: July 28, 2025.
Patrick C. Burkett,
Captain, U.S. Coast Guard, Captain of the Port, Sector Maryland-National Capital Region.

[FR Doc. 2025-15356 Filed 8-12-25; 8:45 am]

BILLING CODE 9110-04-P